DEPARTMENT OF THE INTERIOR

U.S. Geological Survey

[GR17ND00GCT2800; OMB Control Number 1028-New]

Agency Information Collection Activities; Submission to the Office of Management and Budget for Review and Approval; Phragmites Adaptive Management Framework

AGENCY: U.S. Geological Survey, Interior.

ACTION: Notice of information collection; request for comment.

SUMMARY: In accordance with the Paperwork Reduction Act of 1995, we, the U.S. Geological Survey (USGS) are proposing a new information collection.

DATES: Interested persons are invited to submit comments on or before May 25, 2018.

ADDRESSES: Send written comments on this information collection request (ICR) to the Office of Management and Budget's Desk Officer for the Department of the Interior by email at OIRA_Submission@omb.eop.gov; or via facsimile to (202) 395-5806. Please provide a copy of your comments to USGS, Information Collections Clearance Officer, 12201Sunrise Valley Drive, MS 159, Reston, VA 20192; or by email to gs-info_collections@usgs.gov. Please reference `OMB Information Collection 1028-NEW: Phragmites Adaptive Management Framework' in the subject line of your comments.

FOR FURTHER INFORMATION CONTACT: To request additional information about this ICR, contact Clint Moore, Research Wildlife Biologist, U.S. Geological Survey, Georgia Cooperative Fish and Wildlife Research Unit, Warnell School of Forestry and Natural Resources, University of Georgia, Athens, GA 30602 (mail); 706-542-1166 (phone); or cmoore@usgs.gov (email). You may also view the ICR at www.reginfo.gov/public/do/PRAMain.

SUPPLEMENTARY INFORMATION: We, the USGS, in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

A Federal Register notice with a 60-day public comment period soliciting comments on this collection of information was published on November 28, 2017 (82 FR 56262). No comments were received.

We are again soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. Before including your address, phone number, email address, or other personal identifying information in your comment, you should be aware that your entire comment—including your personal identifying information—may be made publicly available at any time. While you may ask us in your comment to withhold your personal identifying information from public review, we cannot guarantee that we will be able to do so.

Abstract: The Phragmites Adaptive Management Framework (PAMF) is a collaborative effort to confront and reduce the spread of invasive Phragmites grass in the Great Lakes watershed. Phragmites is associated with reduced water quality, loss of biodiversity, reduced recreational opportunities, and increased fire hazards. Reducing or eliminating Phragmites throughout the region will reverse these deleterious effects and help achieve the comprehensive restoration goals for the Great Lakes basin (see the Great Lakes Restoration Initiative at https://www.glri.us/). The PAMF initiative uses the principles of adaptive management, a learning-based form of management in which data gathered following a treatment action are used to improve the predictive models that inform the decision-making process itself. Identified as a priority by the multi-national Great Lakes Phragmites Collaborative (http://www.greatlakesphragmites.net/), PAMF is a network of public and private cooperators who share a common desire to reduce or eradicate invasive Phragmites on lands that they manage. Membership in PAMF is voluntary and occurs after the cooperator has decided to treat Phragmites. A process is being developed to deliver site-specific guidance to participants that will both help them understand what treatment approach is most likely to achieve their management objectives and support regional adaptive learning through improvements and feedbacks to underlying scientific models. Cooperators will monitor and report vegetation characteristics on lands enrolled in the program, and they will report attributes about treatments applied. The data will be used in analytical routines that will indicate a best treatment action to apply based on measured conditions and will update the set of predictive models that underlie the decision support tool. USGS is providing scientific leadership to the initiative through the development of models, monitoring design, data systems, and a workflow to process the collected data into management guidance.

Title: Phragmites Adaptive Management Framework.

OMB Control Number: 1028-NEW.

Form Number: None.

Type of Review: New.

Respondents/Affected Public: General public, NGOs, governmental entities (Federal, State, Local, Tribal, Provincial).

Total Estimated Number of Annual Respondents: 100.

Total Estimated Total Number of Annual Responses: 200.

Estimated Completion Time per Response: We estimate that it will take 1.5 hours per person to review training materials, traverse the property to observe conditions, and enter information into a web-based form.

Total Estimated Number of Annual Burden Hours: 300.

Respondent's Obligation: None, participation is voluntary.

Frequency of Collection: Information is collected twice annually for each enrolled parcel, for as long as participant is enrolled in the program.

Total Estimated Annual Non-Hour Cost: There are no “non-hour cost” burdens associated with this collection of information.

An agency may not conduct or sponsor and a person is not required to respond to a collection of information unless it displays a currently valid OMB control number.

The authority for this action is the Paperwork Reduction Act of 1995 (44 U.S.C. 3501, et seq.).

Russell Strach,
Center Director, USGS Great Lakes Science Center.

[FR Doc. 2018-08674 Filed 4-24-18; 8:45 am]

BILLING CODE 4338-11-P